DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Coordinating Council on Tuesday, December 5, 2000. The following designations are made for each item: (A) is an “action” item; (I) is an “information item”; and (D) is a “discussion” item. The agenda includes the following: (1) Housekeeping Items, i.e. Introductions, Statements of Antitrust Compliance and Conflict of Interest, and Previous Minutes (I); (2) Federal Report (I&D); (3) President's Report (I); (4) Council Membership Issues Discussion (I/D/A); (5) Adoption of ITS America Privacy Principles (D/A); (6) Break (20 minutes) (A); (7) Progress Report: Joint Task Force on ITS Deployment Strategy (I/D); (8) Approval of IVI Advice letter to USDOT (D/A); (9) Progress Report: 10-Year Program Plan & Research Agenda (I/D); (10) Closing Housekeeping—Next meeting: TBD.

ITS AMERICA provides a forum for national discussion and recommendations on ITS activities including programs, research needs, strategic planning, standards, international liaison, and priorities. The charter for the utilization of ITS AMERICA establishes this organization as an advisory committee under the Federal Advisory Committee Act (FACA), 5 USC app. 2, when it provides advice or recommendations to DOT officials on ITS policies and programs. (56 FR 9400, March 6, 1991).

DATES: The Coordinating Council of ITS AMERICA will meet on Tuesday, December 5, 2001 from 8 a.m.-Noon (Eastern Standard time).

ADDRESSES: Wyndham Miami Beach Resort, 4833 Collins Ave., Miami Beach, Florida, 33140. Phone: (305) 532-3600 and Fax: (305) 538-2807.

FOR FURTHER INFORMATION CONTACT: Materials associated with this meeting may be examined at the offices of ITS AMERICA, 400 Virginia Avenue, SW., Suite 800, Washington, D.C. 20024. Persons needing further information or to request to speak at this meeting should contact Carren Kaston at ITS AMERICA by telephone at (202) 484-4669, or by FAX at (202) 484-3483. The DOT contact is Kristy Frizzell, FHWA, HVH-1, Washington, D.C. 20590, (202) 366-0722. Office hours are from 8:30 a.m. to 5 p.m., e.t., Monday through Friday, except for legal holidays.

(23 U.S.C. 315; 49 CFR 1.48)

Issued on: November 9, 2000.
Whitey Metheny,
ITS Joint Program Office.

[FR Doc. 00-29268 Filed 11-14-00; 8:45 am]

BILLING CODE 4910-22-P